DEPARTMENT OF COMMERCE

National Oceanic and Atmospheric Administration

Availability of Seats for the Stellwagen Bank National Marine Sanctuary Advisory Council

AGENCY: National Marine Sanctuary Program (NMSP), National Ocean Service (NOS), National Oceanic and Atmospheric Administration, Department of Commerce (DOC).

ACTION: Notice and request for applications.

SUMMARY: The Stellwagen Bank National Marine Sanctuary (SBNMS) is seeking applicants for the following vacant seats on its Sanctuary Advisory Council (Council): Business and Industry (Member and Alternate) and Education (Alternate). Applicants are chosen based upon their particular expertise and experience in relation to the seat for which they are applying; community and professional affiliations; philosophy regarding the protection and management of marine resources; and possibly the length of residence in the area affected by the Sanctuary. Applicants who are chosen as members should expect to serve 2-3 year terms, pursuant to the Council's Charter.

DATES: Applications are due by December 15, 2005.

ADDRESSES: Application kits may be obtained from the SBNMS Web site: http://stellwagen.nos.noaa.gov (under management) or Ruthetta Halbower 871-545-8026 extension 201 ruthetta.halbower@noaa.gov; SBNMS 175 Edward Foster Road, Scituate, MA 02066. Completed applications should be sent to the same address.

FOR FURTHER INFORMATION CONTACT: Nathalie War, SAC Coordinator SBNMS, 175 Edward Foster Road, Scituate, MA 02066, 781-545-8026 extension 206, nathalie.ward@noaa.gov.

SUPPLEMENTARY INFORMATION: The Stellwagen Bank National Marine Sanctuary Advisory Council was established in March 2001 to assure continued public participation in the management of the Sanctuary. Serving in a volunteer capacity, the Advisory Council's 21 voting members represent a variety of local user groups, as well as the general public, plus seven local, State and Federal Government jurisdictions. Since its establishment, the Advisory Council has played a vital role in advising the Sanctuary and NOAA on critical issues and is currently focused on the sanctuary's development of a new 5-year management plan.

The Stellwagen Bank National Marine Sanctuary encompasses 842 square miles of ocean, stretching between Cape Ann and Cape Code. Renowned for its scenic beauty and remarkable productivity, the sanctuary supports a rich diversity of marine life including marine mammals, more than 30 species of seabirds, over 100 species of fishes, and hundreds of marine invertebrates and plants.

Authority: 16 U.S.C. Section 1431, et seq.

(Federal Domestic Assistance Catalog Number 11.429 Marine Sanctuary Program)
Dated: October 20, 2005.
Daniel J. Basta
Director, National Marine Sanctuary Program, National Ocean Service, National Oceanic and Atmospheric Administration.

[FR Doc. 05-21443 Filed 10-26-05; 8:45 am]

BILLING CODE 3510-NK-M